DEPARTMENT OF THE TREASURY

Bureau of Alcohol, Tobacco and Firearms

27 CFR Parts 17, 18, 19, 20, 22, 24, 25, 29, 70, and 170

[T.D. ATF-462]

RIN 1512-AC34

Stills and Miscellaneous Regulations; Recodification of Regulations (2000R-491P)

AGENCY: Bureau of Alcohol, Tobacco and Firearms (ATF), Department of the Treasury.

ACTION: Final rule (Treasury decision).

SUMMARY: The Bureau of Alcohol, Tobacco and Firearms (ATF) is recodifying the regulations pertaining to stills. The purpose of this recodification is to reissue the regulations in part 170 of title 27 of the Code of Federal Regulations (27 CFR part 170) as 27 CFR part 29. This change improves the organization of title 27 CFR.

DATES: This rule is effective on August 15, 2001.

FOR FURTHER INFORMATION CONTACT: Lisa M. Gesser, Regulations Division, Bureau of Alcohol, Tobacco and Firearms, 650 Massachusetts Avenue NW., Washington, DC 20226, (202-927-9347) or e-mail at LMGesser@atfhq.atf.treas.gov.

SUPPLEMENTARY INFORMATION:

Background

As a part of the continuing efforts to reorganize the part numbering system of title 27 CFR, ATF is removing part 170 of title 27 CFR, in its entirety, and is recodifying the regulations as 27 CFR part 29. This change improves the organization of title 27 CFR. In addition, ATF is amending the title of the new part 29 to correspond more closely with the content of the part.

Derivation Table for Part 29
The requirements of | Are derived from
Subpart A-B [Reserved]
Subpart C—Stills
Sec.
29.41 | 170.41
29.43 | 170.43
29.45 | 170.45
29.47 | 170.47
29.49 | 170.49
29.51 | 170.51
29.53 | 170.53
29.55 | 170.55
29.57 | 170.57
29.59 | 170.59
Subpart D-Y [Reserved]

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedures Act (5 U.S.C. 553), the provisions of the Regulatory Flexibility Act (5 U.S.C. 601 et seq.) do not apply. We sent a copy of this final rule to the Chief Counsel for Advocacy of the Small Business Administration in accordance with 26 U.S.C. 7805(f). No comments were received.

Executive Order 12866

It is hereby certified that this final rule is not a significant regulatory action as defined in Executive Order 12866. Accordingly, this final rule is not subject to the analysis required by this Executive Order.

Administrative Procedure Act

Because this final rule merely makes technical amendments to improve the clarity and organization of the regulations, it is unnecessary to issue this final rule with notice and public procedure under 5 U.S.C. 553(b). Similarly, because this final rule makes no substantial changes and is merely the recodification of existing regulations, good cause is found that it is unnecessary to subject this final rule to the effective date limitation of 5 U.S.C. 553(d).

Drafting Information

The principal author of this document is Lisa M. Gesser, Regulations Division, Bureau of Alcohol, Tobacco and Firearms.

List of Subjects

27 CFR Part 17

Administrative practice and procedure, Claims, Cosmetics, Customs duties and inspection, Drugs, Excise taxes, Exports, Imports, Liquors, Packaging and containers, Puerto Rico, Reporting and recordkeeping requirements, Spices and flavorings, Surety bonds, Virgin Islands.

27 CFR Part 18

Alcohol and alcoholic beverages, Fruits, Reporting and recordkeeping requirements, Spices and flavorings.

27 CFR Part 19

Caribbean Basin initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 20

Alcohol and alcoholic beverages, Claims, Cosmetics, Excise taxes, Labeling, Packaging and containers, Penalties, Reporting and recordkeeping requirements, Surety bonds.

27 CFR Part 22

Administrative practice and procedure, Alcohol and alcoholic beverages, Excise taxes, Reporting and recordkeeping requirements, Surety bonds.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 29

Alcohol and alcoholic beverages, Authority delegations, Distilled spirits, Liquors, Packaging and containers, Penalties, Reporting and recordkeeping requirements, Seizures and forfeitures, Stills.

27 CFR Part 70

Administrative practice and procedure, Claims, Excise taxes, Freedom of information, Law enforcement, Penalties, Reporting and recordkeeping requirements, Surety bonds.

27 CFR Part 170

Alcohol and alcoholic beverages, Authority delegations, Distilled spirits, Liquors, Packaging and containers, Penalties, Reporting and recordkeeping requirements, Seizures and forfeitures, Stills.

Authority and Issuance

ATF is amending title 27 of the Code of Federal Regulation, chapter 1, as follows:

PART 17—DRAWBACK ON TAXPAID DISTILLED SPIRITS USED IN MANUFACTURING NONBEVERAGE PRODUCTS

Paragraph 1. The authority citation for 27 CFR part 17 continues to read as follows:

Authority: 26 U.S.C. 5010, 5131-5134, 5143, 5146, 5206, 5273, 6011, 6065, 6091, 6109, 6151, 6402, 6511, 7011, 7213, 7652, 7805: 31 U.S.C. 9301, 9303, 9304, 9306.

§ 17.168 [Amended]

Par. 2. Amend § 17.168(a) by removing the reference to “part 170” and adding, in its place, a reference to “part 29.”

PART 18—PRODUCTION OF VOLATILE FRUIT-FLAVOR CONCENTRATE

Par. 3. The authority citation for 27 CFR part 18 continues to read as follows:

Authority: 26 U.S.C. 5001, 5172, 5178, 5179, 5203, 5511, 5552, 6065, 7805; 44 U.S.C. 3504(h).

§ 18.23 [Amended]

Par. 4. Amend § 18.23 as follows:

a. Remove the reference to “part 170” and add, in its place, a reference to “part 29”; and

b. Remove the reference to “§ 170.55” and add, in its place, a reference to “§ 29.55.”

PART 19—DISTILLED SPIRITS PLANTS

Par. 5. The authority citation for 27 CFR part 19 continues to read as follows:

Authority: 19 U.S.C. 81C, 1131; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

Par. 6. Amend § 19.3 by removing the reference to “27 CFR part 170—Miscellaneous Regulations Relating to Liquor” and adding, in part number order, a reference to “27 CFR part 29—Stills and Miscellaneous Regulations.”

§ 19.169 [Amended]

Par. 7. Amend § 19.169 as follows:

a. Remove the reference to “part 170” and add, in its place, a reference to “part 29”; and

b. Remove the reference to “§ 170.55” and add, in its place, a reference to “§ 29.55.”

PART 20—DISTRIBUTION AND USE OF DENATURED ALCOHOL AND RUM

Par. 8. The authority citation for 27 CFR part 20 continues to read as follows:

Authority: 26 U.S.C. 5001, 5206, 5214, 5271-5275, 5311, 5552, 5555, 5607, 6065, 7805.

§ 20.3 [Amended]

Par. 9. Amend § 20.3 by removing the reference to “27 CFR Part 170—Miscellaneous Regulations Relating to Liquor” and adding, in part number order, a reference to “27 CFR Part 29—Stills and Miscellaneous Regulations.”

§ 20.66 [Amended]

Par. 10. Amend § 20.66 as follows:

a. Remove the reference to “part 170” and add, in its place, a reference to “part 29”; and

b. Remove the reference to “§ 170.55” and add, in its place, a reference to “§ 29.55.”

PART 22—DISTRIBUTION AND USE OF TAX-FREE ALCOHOL

Par. 11. The authority citation for 27 CFR part 22 continues to read as follows:

Authority: 26 U.S.C. 5001, 5121, 5142, 5143, 5146, 5206, 5271-5276, 5311, 5552, 5555, 6056, 6061, 6065, 6109, 6151, 6806, 7011, 7805; 31 U.S.C. 9304, 9306.

§ 22.3 [Amended]

Par. 12. Amend § 22.3 by removing the reference to “27 CFR Part 170—Miscellaneous Regulations Relating to Liquor” and adding, in part number order, a reference to “27 CFR Part 29-Stills and Miscellaneous Regulations.”

§ 22.66 [Amended]

Par. 13. Amend § 22.66 as follows:

a. Remove the reference to “part 170” and add, in its place, a reference to “part 29”; and

b. Remove the reference to “§ 170.55” and add, in its place, a reference to “§ 29.55.”

PART 24—WINE

Par. 14. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

Par. 15. Amend § 24.4 by removing the reference to “27 CFR Part 170—Miscellaneous Regulations Relating to Liquor” and adding, in part number order, a reference to “27 CFR Part 29—Stills and Miscellaneous Regulations.”

§ 24.114 [Amended]

Par. 16. Amend § 24.114 as follows:

a. Remove the reference to “part 170” and add, in its place, a reference to “part 29”; and

b. Remove the reference to “§ 170.55” and add, in its place, a reference to “§ 29.55.”

PART 25—BEER

Par. 17. The authority citation for 27 CFR part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

§ 25.4 [Amended]

Par. 18. Amend § 25.4 by removing the reference to “27 CFR Part 170—Miscellaneous Regulations Relating to Liquor” and adding, in part number order, a reference to “27 CFR Part 29—Stills and Miscellaneous Regulations.”

PART 70—PROCEDURE AND ADMINISTRATION

Par. 19. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.131 [Amended]

Par. 20. Amend paragraph (b) of § 70.131 by removing the reference to “part 170” and adding, in its place, a reference to “part 29.”

§ 70.411 [Amended]

Par. 21. Amend paragraph (c)(2) of § 70.411 by removing the reference to “Part 170” and adding, in its place, a reference to “Part 29.”

PART 170—[REDESIGNATED AS PART 29]

Par. 22. Redesignate 27 CFR part 170 as 27 CFR part 29.

PART 29—MISCELLANEOUS REGULATIONS RELATING TO ALCOHOL

Par. 23. The authority citation for the newly redesignated 27 CFR part 29 is revised to read as follows:

Authority: 26 U.S.C. 5002, 5101, 5102, 5179, 5291, 5601, 5615, 5687, 7805.

Par. 24. Revise the title of the newly redesignated part 29 to read as follows:

PART 29—STILLS AND MISCELLANEOUS REGULATIONS

* * * * *

§§ 29.42 and 29.45 [Amended]

Par. 25. Remove the reference to “ATF Order 1130.20, Delegation Order—Delegation of the Director's Authorities in 27 CFR Part 170—Miscellaneous Regulations Relating to Liquor” and add, in its place, a reference to “ATF Order 1130.25, Delegation Order—Delegation of the Director's Authorities in 27 CFR Part 29—Stills and Miscellaneous Regulations,” in the following places:

a. Section 29.42; and

b. The definition of “Appropriate ATF officer” in § 29.45.

§§ 29.47 and 29.49 [Amended]

Par. 26. Remove the reference to “§ 170.59” and add, in its place, a reference to “§ 29.59” in the following places:

a. Section 29.47(c); and

b. Section 29.49(c).

§ 29.59 [Amended]

Par. 27. Amend § 29.59 by removing the reference to “§ 170.47, or 170.49” and adding, in its place, a reference to “§§ 29.47 or 29.49.”

Signed: April 13, 2001.
Bradley A. Buckles,
Director, Bureau of Alcohol, Tobacco and Firearms.
Approved: April 25, 2001.
Timothy E. Skud,
Acting Deputy Assistant Secretary (Regulatory, Tariff and Trade Enforcement), Department of the Treasury.

[FR Doc. 01-20482 Filed 8-14-01; 8:45 am]

BILLING CODE 4810-31-P